DEPARTMENT OF HEALTH AND HUMAN SERVICES

Administration for Children and Families

Submission for OMB Review; Comment Request

Title: Evaluation of the Community Healthy Marriage Initiative—Impact Evaluation—Wave 2.

OMB No.: 0970-0322.

Description: The Administration for Children and Families (ACF), U.S. Department of Health and Human Services (HHS), is conducting a demonstration and evaluation called the Community Healthy Marriage Initiative (CHMI). Demonstration programs have been funded through Healthy Marriage and Responsible Fatherhood grants authorized under section 403(a)(2) of the Social Security Act to support healthy marriage directly and to encourage community changes that increase support for healthy marriages and improve child and family wellbeing.

The objective of the evaluation is to: (1) Assess the implementation of community interventions designed to provide marriage education by examining the way the projects operate and by examining child support outcomes among low-income families in the community; and (2) evaluate the community impacts of these interventions on marital stability and satisfaction, child well-being and child support outcomes among low income families.

The purpose of this information collection is to conduct a follow-up survey of respondents from Wave 1 who live in the communities where CHMI demonstrations are operating, and a survey of CHMI program participants. The impact evaluation will assess the effects of community healthy marriage initiatives by comparing family and child well-being outcomes in the CHMI communities with similar outcomes in comparison communities that are well matched to the demonstration project sites.

Respondents: Community members and program participants in CHMI treatment and comparison communities.

Annual Burden Estimate
Instrument | Number of respondents | Number of responses per respondent | Average burden hours per respondent | Estimated annual burden hours
Wave 2 Survey | 4,120 | 1 | .75 | 3,090

Estimated Total Annual Burden Hours: 3,090.

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: June 11, 2009.
Seth F. Chamberlain,
OPRE Reports Clearance Officer.

[FR Doc. E9-14181 Filed 6-18-09; 8:45 am]

BILLING CODE 4184-01-M